ENVIRONMENTAL PROTECTION AGENCY

[FRL-9910-27-OA]

Notification of a Request for Nominations of Experts for a Science Advisory Board Panel on Economy-Wide Modeling

AGENCY: Environmental Protection Agency (EPA).

ACTION: Notice.

SUMMARY: The EPA Science Advisory Board (SAB) Staff Office requests public nominations of scientific experts to form an SAB panel to provide advice through the chartered SAB on the appropriate role of economy-wide modeling of the costs and benefits of air regulations in informing the regulatory process.

DATES: Nominations should be submitted by May 21, 2014 per the instructions below.

FOR FURTHER INFORMATION CONTACT: Any member of the public wishing further information regarding this Notice and Request for Nominations may contact Dr. Holly Stallworth, Designated Federal Officer (DFO), SAB Staff Office, by telephone/voice mail at (202) 564-2073 or via email at stallworth.holly@epa.gov. General information concerning the EPA SAB can be found at the EPA SAB Web site at http://www.epa.gov/sab.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

On February 5, 2014, the EPA's National Center for Environmental Economics (NCEE) and the Office of Air and Radiation (OAR) announced (79 FR 6899—6900) that they had developed a draft “analytic blueprint” of materials on the technical merits and challenges of using economy-wide models to evaluate the social costs, benefits and economic impacts associated with EPA's air regulations. These materials, along with draft charge questions for the SAB and public comments can be found in the docket at http://www.regulations.gov under the docket identification, EPA-HQ-OA-2014-0129.

The EPA has requested that the SAB provide review of the EPA's modeling and ability to measure full regulatory impacts and to make recommendations on the use of economy-wide modeling frameworks to characterize the social costs, benefits, and economic impacts of air regulations with the aim of improving benefit-cost and economic impact analyses used to inform decision-making at the agency. As a first step, the EPA has asked the SAB to provide feedback on its draft charge questions and analytic blueprint following the 60-day public comment period referenced in EPA-HQ-OA-2014-0129.

With today's Notice, the Science Advisory Board Staff Office is soliciting nominations for an expert panel to provide advice to EPA through the chartered SAB on its draft analytical blueprint and any subsequent materials developed on economy-wide modeling. To conduct this review, the SAB Staff Office is forming an expert panel under the auspices of the Chartered SAB.

Technical Contact for EPA's Draft Report: For information concerning EPA's draft charge questions and draft analytic blueprint on economy-wide modeling, please contact Dr. Ann Wolverton, National Center for Environmental Economics at wolverton.ann@epa.gov or 202-566-2278.

Request for Nominations: The SAB Staff Office requests nominations of environmental economists and other scientists with expertise in the following areas: Cost-benefit analysis; computable general equilibrium (CGE) modeling with experience in representing environmental and/or energy policy; the use of detailed sector models and linking CGE models to detailed sector models; non-CGE (macro) models for capturing general equilibrium effects of environmental policy; dynamic stochastic modeling in CGE and/or macro model contexts; representation of health improvements and other types of benefits in a CGE or non-CGE framework (e.g. use of state-dependent utility functions); transition dynamics in a general equilibrium framework (e.g., in labor or capital markets; spatial sorting models); interface of macro- and micro-economic modeling; quantifying and monetizing spatially differentiated mortality/morbidity/non-health welfare, and non-use effects of air quality; and the representation of non-use or environmental preferences in the utility function. The SAB Staff Office seeks labor economists with a macroeconomic or general equilibrium perspective who have expertise in the short-and long-run implications of regulatory decisions for household labor market decisions (e.g., labor-leisure trade-offs); and expertise in the labor market implications of productivity improvements due to better health. The SAB Staff Office is also seeking expertise on risk and uncertainty to formally characterize uncertainty in CGE and non-CGE models including representation of the effects of uncertainty on behavior of economic agents.

Process and Deadline for Submitting Nominations: Any interested person or organization may nominate qualified individuals in the areas of expertise described above for possible service on this expert panel. Self-nominations are allowed as well. Nominations should be submitted in electronic format (preferred over hard copy) following the instructions for “Nominating Experts to Advisory Panels and Ad Hoc Committees Being Formed,” provided on the SAB Web site. The instructions can be accessed through the “Nomination of Experts” link on the blue navigational bar at the SAB Web site http://www.epa.gov/sab. To receive full consideration, nominations should include all of the information requested below.

EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Dr. Holly Stallworth, DFO, as indicated above in this notice. Nominations should be submitted in time to arrive no later than May 21, 2014. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates on the SAB Web site at http://www.epa.gov/sab. Public comments on this List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a lack of impartiality; (e) skills working in committees, subcommittees and advisory panels; and, (f) for the panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a lack of impartiality, as defined by federal regulation. The form may be viewed and downloaded from the following URL address http://yosemite.epa.gov/sab/sabproduct.nsf/Web/ethics?OpenDocument.

The approved policy under which the EPA SAB Office selects subcommittees and reviews panels is described in the following document: Overview of the Panel Formation Process at the Environmental Protection Agency Science Advisory Board (EPA-SAB-EC-02-010), which is posted on the SAB Web site at http://www.epa.gov/sab/pdf/ec02010.pdf.

Dated: April 24, 2014.
Thomas H. Brennan,
Deputy Director, Science Advisory Board Staff Office.

[FR Doc. 2014-09902 Filed 4-29-14; 8:45 am]

BILLING CODE 6560-50-P